DEPARTMENT OF TRANSPORTATION

Federal Aviation Administration

[Docket No. FAA-2020-1051]

Agency Information Collection Activities: Requests for Comments; Clearance of New Approval of Information Collection: Unmanned Aircraft Systems (UAS) BEYOND and Partnership for Safety Plan (PSP) Programs

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on March 30, 2021. The collection involves data and report submissions by State, local and tribal participants in the UAS BEYOND program (BEYOND), and by industry participants in the Partnership for Safety Plan (PSP) program. BEYOND and PSP participants will also conduct qualitative, non-statistical surveys of the general public. The information to be collected will be used to inform FAA policy and decision-making regarding integrating UAS into the National Airspace System or to build FAA knowledge of best practices and lessons learned to share with UAS operators.

DATES: Written comments should be submitted by December 6, 2021.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Corbin Jones by email at: corbin.t.jones@faa.gov; phone: 202-641-8950.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Unmanned Aircraft Systems (UAS) BEYOND and Partnership for Safety Plan (PSP).

Form Numbers:

The data collection instruments to be used for the BEYOND and PSP programs are program specific, and will not include official form numbers. The instruments include:

• PSP Quarterly Reports

• BEYOND Semi-Annual Reports

• BEYOND Final Reports

• PSP Final Reports

• BEYOND Program Withdrawal Reports

• UAS Characteristics Reports

• UAS Monthly Operational Flight Reports

• UAS Maintenance Reports

• UAS Flight Anomaly Reports

• UAS Test Data Reports

• Legacy Societal and Economic Data Reports

• UAS Societal and Economic Data Reports

• Community Engagement Reports

• Community Engagement Tool

Type of Review: New information collection.

Background: The Federal Register Notice with a 60-day comment period soliciting comments on the following collection of information was published on March 30, 2021 (86 FR 16653). The background and burden information within this Federal Register Notice has been updated to reflect feedback received from the Bureau of Transportation Statistics and internal FAA reviewers in order to clarify information pertaining to the collections and to update burden estimations based upon expectations of the programs. The data collected during the BEYOND and PSP programs is delineated as part of the Memorandum of Agreement (MOA) or Memorandum of Understanding (MOU) each participant signs with the FAA, and entered into under the authority of 49 U.S.C. 106(l) and (m).

The purpose of the BEYOND and PSP programs is for the Federal Aviation Administration (FAA) to work with state, local and tribal (SLT) governments (BEYOND) and private UAS operators (PSP) to work toward full, safe integration of UAS into the national airspace system (NAS). There are eight SLT governments in the BEYOND program and seven industry participants in the PSP program. The programs have multiple data collections that serve different purposes to help the FAA achieve the goals.

First, there are narrative reports that will provide qualitative, non-statistical data that will inform the FAA of operational trends, highlight successes and failures and their causes, and describe challenges and lessons learned. These narrative reports are meant to inform the FAA of progress being made, to identify where there are challenges or gaps in understanding, and to help the FAA make policy and resource decisions. The data will be supplied by the eight SLT governments in the BEYOND program, and the seven industry operators in the PSP program. The collection instruments include:

(1) PSP Quarterly Reports

(2) BEYOND Semi-Annual Reports

(3) BEYOND Final Reports

(4) PSP Final Reports

(5) BEYOND Program Withdrawal Reports

Second, there are systems and operations data submissions which will provide both quantitative and qualitative information about the program participants' aircraft, flights, corrective maintenance actions, off-nominal flight events, and UAS testing activities. The submissions are not statistical in nature but are designed to supply data that will help inform policy and standards related to UAS pilots flying their aircraft beyond their visual line of sight. The data will be supplied by the eight SLT governments in the BEYOND program, and the seven industry operators in the PSP program. The collection instruments include:

(6) UAS Characteristics Reports

(7) UAS Monthly Operational Flight Reports

(8) UAS Maintenance Reports

(9) UAS Flight Anomaly Reports

(10) UAS Test Data Reports

Third, there are societal and economic data submissions that will provide qualitative and quantitative data regarding the potential societal and economic impacts of participant UAS operations. These are non-statistical reports that provide insight into the types of societal and economic benefits or detriments the participants' UAS operations are having on their communities and their business operations compared to non-UAS (legacy) operations. These submissions will help to inform FAA policy and decision-making toward integrating different types of operations into the NAS, and to inform discussions with the public on the potential benefits of using UAS. The data will be supplied by the eight SLT governments in the BEYOND program, and the seven industry operators in the PSP program. The collection instruments include:

(11) Legacy Societal and Economic Data Reports

(12) UAS Societal and Economic Data Reports

Fourth, there is a community engagement component to the programs which includes two separate, but related, collections. One of these is the reports that will provide qualitative and quantitative data regarding the participants' community outreach activities, including the types of activities, the targeted audiences, and the types and quantity of feedback received. The reports will include any raw data collected using questionnaires or surveys. These submissions are not statistical in nature, but will provide valuable information to the FAA that will inform community engagement best practices and lessons learned which can be shared with the public. The data will be supplied by the eight SLT governments in the BEYOND program, and the seven industry operators in the PSP program. The collection instruments include:

(13) Community Engagement Reports

The other piece of the community engagement component is the Community Engagement Tool, which will include a potential burden on the general public. The Community Engagement Tool was developed by the FAA as an optional aid for program participants that includes general and operation-specific questions related to UAS operations. The BEYOND and PSP participants may choose to use any of the pertinent sample survey questions when developing their own questionnaires to survey the general public in their communities. The tool includes questions on general knowledge of UAS and sentiments toward potential benefits or drawbacks of UAS operations. The Community Engagement Tool is intended to help the program participants develop simple questionnaires with no intended utility other than gaining insight into the general public's experience with, and opinions of, UAS operations. No statistical analysis or inference will be performed other than tabulation of responses. Results may be used to help develop lessons learned or best practices for other UAS stakeholders pertaining to community engagement activities.

(14) Community Engagement Tool

Respondents: Depending on the submission, the respondents include three groups:

1. Business or other for-profit—PSP participants only

2. State, Local or Tribal Government—BEYOND participants only

3. Individuals or Households

See the table below for details.

Frequency: The frequency depends on the report or form. See the table below for details.

Estimated Average Burden per Response: Depending on the submission, the overall estimated average burden per response varies from 5 minutes to 80 hours. See the table below for details.

Estimated Total Annual Burden: The estimated total annual burden for all submissions is 33,756.05 hours. See the table below for a breakdown by collection instrument.

Report/form | Affected public | Frequency | Number of respondents | Total number of responses | Estimated average burden per response (hours) | Estimated total annual burden (hours)
Narrative Reports
PSP Quarterly Reports | Business or other for-profit, PSP participants only | Quarterly | 7.00 | 28.00 | 80.00 | 2,240.00
BEYOND Semi-Annual Reports | State, Local or Tribal Government, BEYOND participants only | Semi-Annually | 8.00 | 16.00 | 80.00 | 1,280.00
PSP Final Reports | Business or other for-profit, PSP participants only | One-Time Submission | 7.00 | 2.33 | 40.00 | 93.20
BEYOND Final Reports | State, Local or Tribal Government, BEYOND participants only | One-Time Submission | 8.00 | 2.67 | 40.00 | 106.80
BEYOND Program Withdrawal Reports | State, Local or Tribal Government, BEYOND participants only | One-Time Submission | 8.00 | 2.67 | 40.00 | 106.80
Narrative Reports Sub-Totals | 38.00 | 51.67 | 74.06 | 3,826.80
Systems and Operations Data
UAS Monthly Operational Flight Reports | Business or other for-profit—PSP participants only, and State, Local or Tribal Government—BEYOND participants only | Monthly | 15.00 | 180.00 | 1.00 | 180.00
UAS Maintenance Reports | Business or other for-profit—PSP participants only, and State, Local or Tribal Government—BEYOND participants only | Monthly | 15.00 | 180.00 | 1.00 | 180.00
UAS Test Data Reports (optional) | Business or other for-profit—PSP participants only, and State, Local or Tribal Government—BEYOND participants only | Ad hoc | 15.00 | 15.00 | 0.08 | 1.25
UAS Anomaly Reports | Business or other for-profit—PSP participants only, and State, Local or Tribal Government—BEYOND participants only | On Occasion—Assuming 10 annually per participant | 15.00 | 150.00 | 1.00 | 150.00
UAS Aircraft Characteristics Submissions | Business or other for-profit—PSP participants only, and State, Local or Tribal Government—BEYOND participants only | On Occasion—for each New Aircraft—Assuming average 25 annual submissions | 15.00 | 375.00 | 0.20 | 75.00
Systems and Operations Data Sub-Totals | 75.00 | 900.00 | 0.65 | 586.25
Societal and Economic Data
Legacy Societal and Economic Data Reports (PSP participants) | Business or other for-profit—PSP participants only | Quarterly | 7.00 | 28.00 | 1.00 | 28.00
UAS Societal and Economic Data Reports (PSP participants) | Business or other for-profit—PSP participants only | Quarterly | 7.00 | 28.00 | 1.00 | 28.00
Legacy Societal and Economic Data Reports (BEYOND participants) | State, Local or Tribal Government—BEYOND participants only | Semi-Annually | 8.00 | 16.00 | 1.00 | 16.00
UAS Societal and Economic Data Reports (BEYOND participants) | State, Local or Tribal Government—BEYOND participants only | Semi-Annually | 8.00 | 16.00 | 1.00 | 16.00
Societal and Economic Data Sub-Totals | 30.00 | 88.00 | 1.00 | 88.00
Community Engagement
Community Engagement Data Reports (PSP participants) | Business or other for-profit—PSP participants only | Quarterly | 7.00 | 28.00 | 2.00 | 56.00
Community Engagement Data Reports (BEYOND participants) | State, Local or Tribal Government—BEYOND participants only | Semi-Annually | 8.00 | 16.00 | 2.00 | 32.00
Community Engagement Tool (optional) | Individuals or Households | On Occasion | 175,005.00 | 175,005.00 | 0.17 | 29,167.00
Community Engagement Sub-Totals | 175,020.00 | 175,049.00 | 0.17 | 29,255.00
Totals | 175,163.00 | 176,088.67 | 0.19 | 33,756.05

Issued in Washington, DC, on November 1, 2021.
Corbin T. Jones,
Acting Manager, BEYOND Program, Unmanned Aircraft Systems Integration Office, Federal Aviation Administration.

[FR Doc. 2021-24083 Filed 11-3-21; 8:45 am]

BILLING CODE 4910-13-P